DEPARTMENT OF COMMERCE

National Oceanic and Atmospheric Administration

RIN 0648-XD766

Caribbean Fishery Management Council; Public Meetings

AGENCY: National Marine Fisheries Service, NMFS, National Oceanic and Atmospheric Administration, NOAA, Commerce.

ACTION: Notice of public meetings.

SUMMARY: The Caribbean Fishery Management Council's District Advisory Panels (DAPs) for Puerto Rico, St. Croix and St. Thomas, USVI, will hold meetings.

DATES AND ADDRESSES: The meetings will be held on the following dates and locations:

Puerto Rico DAP: March 11, 2015, from 1 p.m. to 5 p.m., and March 12, 2015, from 9 a.m. to 4 p.m., at the Verdanza Hotel, Tartak St., Isla Verde, Puerto Rico.

St. Croix, USVI DAP: March 16, 2015, from 1 p.m. to 5 p.m., and March 17, 2015, from 9 a.m. to 4 p.m., at the Buccaneer Hotel, Estate Shoys, Christiansted, St. Croix, USVI.

St. Thomas, USVI DAP: March 18, 2015, from 1 p.m. to 5 p.m., and March 19, 2015, from 9 a.m. to 4 p.m., at the Windward Passage Hotel, Charlotte Amalie, St. Thomas, USVI.

FOR FURTHER INFORMATION CONTACT: Caribbean Fishery Management Council, 270 Muñoz Rivera Avenue, Suite 401, San Juan, Puerto Rico 00918; telephone: (787) 766-5926.

SUPPLEMENTARY INFORMATION: The DAPs will meet to discuss the items contained in the following agenda:

—Call to Order;

—Adoption of Agenda;

—Welcome;

—Role of the District Advisory Panel;

—Brief Description of Robert's Rules;

—Review and Comments on the Species Criteria Development by SSC, SEFSC and SERO for the CFMC;

—Alternatives to the Timing for Implementation of Accountable Measures;

—Other Business.

The meetings are open to the public, and will be conducted in English. Fishers and other interested persons are invited to attend and participate with oral or written statements regarding agenda issues.

Special Accommodations

This meeting is physically accessible to people with disabilities. For more information or request for sign language interpretation and/other auxiliary aids, please contact Mr. Miguel A. Rolón, Executive Director, Caribbean Fishery Management Council, 270 Muñoz Rivera Avenue, Suite 401, San Juan, Puerto Rico 00918, telephone (787) 766-5926, at least 5 days prior to the meeting date.

Dated: February 17, 2015.
Tracey L. Thompson,
Acting Deputy Director, Office of Sustainable Fisheries, National Marine Fisheries Service.

[FR Doc. 2015-03531 Filed 2-19-15; 8:45 am]

BILLING CODE 3510-22-P